DEPARTMENT OF COMMERCE

International Trade Administration

(C-570-926)

Sodium Nitrite from the People's Republic of China: Alignment of Final Countervailing Duty Determination with Final Antidumping Duty Determination

AGENCY: Import Administration, International Trade Administration, Department of Commerce.

SUMMARY: The Department of Commerce (the Department) is aligning the final determination in the countervailing duty investigation of sodium nitrite from the People's Republic of China (PRC) with the final determination in the companion antidumping investigation.

EFFECTIVE DATE: April 28, 2008.

FOR FURTHER INFORMATION CONTACT: Sean Carey or Gene Calvert, AD/CVD Operations, Office 6, Import Administration, International Trade Administration, Department of Commerce, 14th Street and Constitution Avenue, N.W., Washington, D.C. 20230; telephone: (202) 482-3964 and (202) 482-3586, respectively.

SUPPLEMENTARY INFORMATION:

BACKGROUND:

On November 28, 2007, the Department initiated the countervailing duty and antidumping duty investigations on sodium nitrite from the PRC. See Sodium Nitrite from the People's Republic of China: Initiation of Countervailing Duty Investigation, 72 FR 68568 (December 5, 2007) and Sodium Nitrite from the Federal Republic of Germany and the People's Republic of China: Initiation of Antidumping Duty Investigations, 72 FR 68563 (December 5, 2007). The countervailing duty and antidumping duty investigations have the same scope with regard to the subject merchandise covered. On April 11, 2008, the Department published the preliminary affirmative countervailing duty determination pertaining to sodium nitrite from the PRC. See Sodium Nitrite from the People's Republic of China: Preliminary Affirmative Countervailing Duty Determination, 73 FR 19816 (April 11, 2008). On April 14, 2008, counsel for petitioner (General Chemical LLC) submitted a letter, in accordance with section 705(a)(1) of the Tariff Act of 1930, as amended (the Act), requesting alignment of the final countervailing duty determination with the final determination in the companion antidumping duty investigation of sodium nitrite from the PRC.

Therefore, in accordance with section 705(a)(1) of the Act, and 19 CFR 351.210(b)(4), we are aligning the final countervailing duty determination on sodium nitrite from the PRC with the final determination in the companion antidumping duty investigation of sodium nitrite from the PRC. The final countervailing duty determination will be issued on the same date as the final antidumping duty determination, which is currently scheduled to be issued on June 30, 2008.

This notice is issued and published pursuant to section 705(a)(1) of the Act.

Dated: April 18, 2008.
David M. Spooner,
Assistant Secretary for Import Administration.

[FR Doc. E8-9224 Filed 4-25-08; 8:45 am]

BILLING CODE 3510-DS-S